DEPARTMENT OF COMMERCE

National Oceanic and Atmospheric Administration

RIN 0648-XU87

Marine Mammals; File No. 15126

AGENCY: National Marine Fisheries Service (NMFS), National Oceanic and Atmospheric Administration (NOAA), Commerce.

ACTION: Notice; issuance of permit amendment.

SUMMARY: Notice is hereby given that a major amendment to Permit No. 15126-01 has been issued to NMFS National Marine Mammal Laboratory (Responsible Party: Dr. John Bengtson, Director), Seattle, WA.

ADDRESSES: The permit amendment and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

FOR FURTHER INFORMATION CONTACT: Tammy Adams or Amy Sloan, (301) 427-8401.

SUPPLEMENTARY INFORMATION: On November 25, 2011, notice was published in the Federal Register (76 FR 72681) that a request for an amendment Permit No. 15126-01 to conduct research on marine mammals had been submitted by the above-named applicant. The requested permit amendment has been issued under the authority of the Marine Mammal Protection Act of 1972, as amended (16 U.S.C. 1361 et seq.), and the regulations governing the taking and importing of marine mammals (50 CFR part 216).

The permit has been amended to include harassment of ribbon seals (Phoca fasciata), spotted seals (P. largha), ringed seals (P. hispida), and bearded seals (Erignathus barbatus) in the North Pacific Ocean, Bering Sea, Arctic Ocean, and coastal regions of Alaska during aerial surveys conducted from either rotary or fixed wing manned or unmanned aircraft. The amendment does not change the duration of the permit, which expires on March 30, 2015.

In compliance with the National Environmental Policy Act of 1969 (42 U.S.C. 4321 et seq.), a final determination has been made that the activity proposed is categorically excluded from the requirement to prepare an environmental assessment or environmental impact statement.

Dated: January 20, 2012.
P. Michael Payne,
Chief, Permits and Conservation Division, Office of Protected Resources, National Marine Fisheries Service.

[FR Doc. 2012-1700 Filed 1-25-12; 8:45 am]

BILLING CODE 3510-22-P